DEPARTMENT OF HOMELAND SECURITY

Federal Emergency Management Agency

[Docket ID FEMA-2008-0009]

National Disaster Housing Task Force

AGENCY: Federal Emergency Management Agency, DHS.

ACTION: Notice of Meeting.

SUMMARY: The National Disaster Housing Task Force (NDHTF) will meet by teleconference on December 15, 2010. At the meeting, the members will report on their work since the October 13, 2010 meeting and discuss the status of the NDHTF's Concept of Operations document. This meeting will be open to the public via a teleconference line.

DATES: The teleconference will take place on December 15, 2010, from 1 p.m. EST to 2:00 p.m. EST. Comments must be submitted by December 17, 2010.

ADDRESSES: Members of the public who wish to obtain the call-in number, access code, and other information for listening to or participating in the public teleconference should contact Mitchell Wyllins as listed under the FOR FURTHER INFORMATION CONTACT caption by December 14, 2010. Comments must be identified by Docket ID FEMA-2008-0009 and may be submitted by any one of the following methods:

Federal Rulemaking Portal: http://www.regulations.gov. Follow the instructions for submitting comments.

Facsimile: (703) 483-2999.

Mail: Office of Chief Counsel, Federal Emergency Management Agency, Room 835, 500 C Street, SW., Washington, DC 20472-3100.

Hand Delivery/Courier: Office of Chief Counsel, Federal Emergency Management Agency, Room 835, 500 C Street, SW., Washington, DC 20472-3100.

Instructions: All submissions received must include the Docket ID FEMA-2008-0009. Comments will be posted without alteration at http://www.regulations.gov, including any personal information provided.

Docket: For access to the docket to read documents or comments received by the NDHTF, go to http://www.regulations.gov.

FOR FURTHER INFORMATION CONTACT: Mitchell Wyllins, National Disaster Housing Task Force, 500 C Street, SW., (Room 428), Washington, DC 20472-3100, telephone 202-646-3173, and e-mail mailto: NDHTF@dhs.gov.

SUPPLEMENTARY INFORMATION: The NDHTF will meet for the purpose of reviewing the progress of the NDHTF's Concept of Operations, which was released for public comment.

Public Attendance

The teleconference is open to the public but will be a listen-only line, unless a specific request is made to present comments during the teleconference. To make such a request, contact Mitchell Wyllins as listed under the FOR FURTHER INFORMATION CONTACT caption by December 14, 2010. Comments presented at the teleconference must relate directly to the NDHTF Concept of Operations document. Please note that vendor/contractor products/services will not be accepted for presentation during the teleconference.

Please note that the meeting may adjourn early if all business is finished.

Information on Services for Individuals With Disabilities

Persons with disabilities who require special assistance should advise Mitchell Wyllins of their anticipated special needs as early as possible.

Closed captioning will be provided at the following link: http://www.fedrcc.us//Enter.aspx?EventID=1663550&CustomerID=321 and event code 1663550.

Dated: December 2, 2010.
W. Craig Fugate,
Administrator, Federal Emergency Management Agency.

[FR Doc. 2010-30973 Filed 12-8-10; 8:45 am]

BILLING CODE 9110\1-23-P